DEPARTMENT OF DEFENSE

Defense Acquisition Regulations System

[DFARS Case 2008-D027]

48 CFR Parts 215, 234, 242, and 252

Defense Federal Acquisition Regulation Supplement; Cost and Software Data Reporting System

AGENCY: Defense Acquisition Regulations System, Department of Defense (DoD).

ACTION: Proposed rule with request for comments.

SUMMARY: DoD proposes to amend the Defense Federal Acquisition Regulation Supplement (DFARS) to set forth DoD Cost and Software Data Reporting system requirements for major defense acquisition programs and major automated information system programs.

DATES: Comments on the proposed rule should be submitted in writing to the address shown below on or before July 6, 2010, to be considered in the formation of the final rule.

ADDRESSES: You may submit comments, identified by DFARS Case 2008-D027, using any of the following methods:

• Federal eRulemaking Portal: http://www.regulations.gov. Follow the instructions for submitting comments.

• E-mail: dfars@osd.mil. Include DFARS Case 2008-D027 in the subject line of the message.

• Fax: 703-602-0350.

• Mail: Defense Acquisition Regulations System, Attn: Ms. Mary Overstreet, OUSD(AT&L)DPAP(DARS), Room 3B855, 3060 Defense Pentagon, Washington, DC 20301-3060.

Comments received generally will be posted without change to http://www.regulations.gov, including any personal information provided.

FOR FURTHER INFORMATION CONTACT: Ms. Mary Overstreet, 703-602-0311.

SUPPLEMENTARY INFORMATION:

A. Background

This rule proposes to amend the DFARS to set forth the DoD requirement for offerors to:

• Describe the standard Cost and Software Data Reporting (CSDR) process offerors intend to use to satisfy the requirements of the CSDR Manual, DoD 5000.04-M-1, and the Government-approved contract CSDR plan, DD Form 2794, and the related Resource Distribution Table (RDT), in proposals in response to solicitations for Major Defense Acquisition Programs and Major Automated Information System programs;

• Provide comments on the adequacy of the CSDR contract plan, and the related Resource Distribution Table contained in the solicitation; and,

• Submit with their pricing proposal: the DD Form 1921, Cost Data Summary Report; DD Form 1921-1, Functional Cost-Hour Report; and, DD Form 1921-2, Progress Curve Report.

During contract performance, the contractor will be required to:

• Utilize a documented standard Cost and Software Data Reporting (CSDR) process that satisfies the guidelines contained in the CSDR Manual DoD 5000.04-M-1;

• Use management procedures that provide for generation of timely and reliable information for the Contractor Cost Data Reports, and Software Resources Data Reports;

• Use the Government-approved contract CSDR plan, DD Form 2794, Cost and Software Data Reporting Plan with the related Resource Distribution Table, and DD Form 1921-3, Contractor Business Data Report, as the basis for reporting; and

• Require subcontractors, or subcontracted effort if subcontractors have not been selected, to comply with the Cost and Software Data Reporting requirements.

This is not a significant regulatory action and therefore was not subject to review under section 6(b) of Executive Order 12866, Regulatory Planning and Review, dated September 30, 1993. This is not a major rule.

B. Regulatory Flexibility Act

DoD has prepared an initial regulatory flexibility analysis consistent with 5 U.S.C. 603. A copy of the analysis may be obtained from the point of contact specified herein. The analysis is summarized as follows:

The objective of the rule is to set forth Cost and Software Data Reporting System reporting requirements that are essential for the DoD to estimate the cost of current and future weapon systems. The reported data will also be very useful in performing contract price analysis, comparing prices of similar systems, and for capturing contractor-provided cost estimates in standard formats to facilitate comparison across several contractors. At this time, DoD is unable to estimate the number of small entities to which this rule will apply.

DoD invites comments from small businesses and other interested parties on the expected impact of this rule on small entities.

DoD will also consider comments from small entities concerning the existing regulations in subparts affected by this rule in accordance with 5 U.S.C. 610. Interested parties must submit such comments separately and should cite U.S.C. 601 (DFARS Case 2008-D027) in correspondence.

C. Paperwork Reduction Act

The information collection requirements under this proposed rule were previously approved by the Office of Management and Budget, under Clearance Number 0704-0188. The requirements of this proposed rule are not expected to significantly change the burden hours approved under Clearance Number 0704-0188.

List of Subjects in 48 CFR Parts 215, 234, 242, and 252

Government procurement.

Ynette R. Shelkin,
Editor, Defense Acquisition Regulations System.

Therefore, DoD proposes to amend 48 CFR parts 215, 234, 242, and 252 as follows:

1. The authority citation for 48 CFR parts 215, 234, 242, and 252 continues to read as follows:

Authority: 41 U.S.C. 421 and 48 CFR chapter 1.

PART 215—CONTRACTING BY NEGOTIATION

215.403-5 [Removed]

2. Remove section 215.403-5.

PART 234—MAJOR SYSTEM ACQUSITION

3. Add subpart 234.71 to read as follows:

Subpart 234.71—Cost and Software Data Reporting
Sec.
234.7100 Policy.
234.7101 Solicitation provision and contract clause.

Subpart 234.71—Cost and Software Data Reporting

234.7100 Policy.

(a) The Cost and Software Data Reporting (CSDR) requirement is mandatory for major defense acquisition programs (as defined in 10 U.S.C. 2430), and major automated information system programs (as defined in 10 U.S.C. 2445a) as specified in DoDI 5000.02, Operation of the Defense Acquisition System and the DoD 5000.04-M-1, CSDR Manual. The CSDR system is applied in accordance with the reporting requirements established in DoDI 5000.02.

(b) Prior to contract award, Contracting Officers shall consult with the Defense Cost and Resource Center to determine that the offeror selected for award has proposed a standard Cost and Software Data Reporting (CSDR) system, as described in the offeror's proposal in response to the provision at 252.234-70XX, that is in compliance with DoDI 5000.02, Operation of the Defense Acquisition System, and the DoD 5000.04-M-1, CSDR Manual.

(c) The Defense Cost and Resource Center contact information is located at PGI 234.7100.

234.7101 Solicitation provision and contract clause.

(a) Use the provision at 252.234-70XX, Notice of Cost and Software Data Reporting System, in all solicitations for major defense acquisition programs and major automated information system programs that exceed $50 million. The clause may also be used on selected contracts below $50 million, but greater than $20 million as determined by the DoD program manager with the approval of the Defense Cost and Resource Center (see PGI 234.7100).

(b) Use the clause at 252.234-70YY, Cost and Software Data Reporting (CSDR), in all solicitations and contracts for major defense acquisition programs and major automated information system programs that exceed $20 million. The clause may also be used for the CSDR Software Resources Data Reporting requirement on selected contracts below $20 million as determined by the DoD program manager with the approval of the Defense Cost and Resource Center (see PGI 234.7100).

PART 242—CONTRACT ADMINISTRATION AND AUDIT SERVICES

4. Revise section 242.503-2 to read as follows:

242.503-2 Postaward conference procedure.

(a) DD Form 1484, Post-Award Conference Record, may be used in conducting the conference and in preparing the conference report.

(b) For contracts that include the clause at 252.234-70YY, postaward conferences shall include a discussion of the Contractor's standard Cost and Software Data Reporting (CSDR) process that satisfies the guidelines contained in the CSDR Manual DoD 5000.04-M-1 and the requirements in the Government approved contract CSDR plan, DD Form 2794, Cost and Software Data Reporting Plan and related Resource Distribution Table, and DD Form 1921-3, Contractor Business Data Report.

PART 252—SOLICITATION PROVISIONS AND CONTRACT CLAUSES

5. Add section 252.234-70XX to read as follows:

252.234 70XX Notice of Cost and Software Data Reporting System.

As prescribed in 234.7101(a), use the following provision:

NOTICE OF COST AND SOFTWARE DATA REPORTING SYSTEM (DATE)

(a) The offeror shall—

(1) Describe the standard Cost and Software Data Reporting (CSDR) process that it intends to use to satisfy the requirements of the CSDR Manual, DoD 5000.04-M-1, and the Government-approved contract CSDR plan, DD Form 2794 and related Resource Distribution Table contained in the solicitation. For Contractor Cost and Data Reporting (CCDR) application, the description will demonstrate how reports are based, to the maximum extent possible, upon actual cost transactions and not cost allocations. The description will also show how the data from the offeror's accounting system will be mapped into the standard reporting categories required in the Contractor CCDR data item descriptions. The document shall also describe how the offeror segregates recurring and nonrecurring costs;

(2) Provide comments on the adequacy of the CSDR contract plan and related Resource Distribution Table contained in the solicitation; and

(3) Submit the DD Form 1921, Cost Data Summary Report, DD Form 1921-1, Functional Cost-Hour Report, and DD Form 1921-2, Progress Curve Report, with its pricing proposal.

(b) The offeror shall identify the subcontractors or the subcontracted effort, if the subcontractors have not been selected, to whom the CSDR requirements will apply. This will be accomplished by providing comments on the Resource Distribution Table contained in the solicitation. The offeror shall be responsible for ensuring the selected subcontractors comply with the requirements of the CSDR System. The offeror shall also be responsible for notifying the Government prior to changes in subcontractor or planned subcontract circumstances affecting CSDR compliance.

(End of provision)

6. Add section 252.234-70YY to read as follows:

252.234 70YY Cost and Software Data Reporting System.

As prescribed in 234.7101(b), use the following clause:

COST AND SOFTWARE DATA REPORTING SYSTEM (DATE)

(a) In the performance of this contract, the Contractor shall use—

(1) A documented standard Cost and Software Data Reporting (CSDR) process that satisfies the guidelines contained in the CSDR Manual DoD 5000.04-M-1;

(2) Management procedures that provide for generation of timely and reliable information for the Contractor Cost Data Reports (CCDRs) and Software Resources Data Reports (SRDRs) required by the CCDR and SRDR data items of the contract. These procedures will also maximize use of actual cost transactions rather than cost allocations; and

(3) The Government-approved contract CSDR plan, DD Form 2794, Cost and Software Data Reporting Plan and related Resource Distribution Table, and DD Form 1921-3, Contractor Business Data Report, as the basis for reporting in accordance with the required CSDR data item descriptions (DIDs).

(b) The Contractor shall require the following subcontractors to comply with the CSDR requirements:

(Contracting Officer to insert names of subcontractors (or subcontracted effort if subcontractors have not been selected) designated for application of the CSDR requirement of the clause.)

(End of clause)

[FR Doc. 2010-10762 Filed 5-6-10; 8:45 am]

BILLING CODE 5001-08-P